SECURITIES AND EXCHANGE COMMISSION

Submission for OMB Review; Comment Request

Securities and Exchange Commission, Office of FOIA Services, 100 F Street NE., Washington, DC 20549-2736.

Extension:

Rule 17f-2(c), SEC File No. 270-35, OMB Control No. 3235-0029.

Notice is hereby given that pursuant to the Paperwork Reduction Act of 1995 (“PRA”) (44 U.S.C. 3501 et seq.), the Securities and Exchange Commission (“Commission”) has submitted to the Office of Management and Budget (“OMB”) a request for approval of extension of the previously approved collection of information provided for in Rule 17f-2(c) (17 CFR 240.17f-2(c)) under the Securities Exchange Act of 1934 (“Act”) (15 U.S.C. 78a et seq.).

Rule 17f-2(c) allows persons required to be fingerprinted pursuant to Section 17(f)(2) of the Act to submit their fingerprints to the Attorney General of the United States or its designee (i.e., the Federal Bureau of Investigation (“FBI”)) through a registered national securities exchange or a registered national securities association (collectively, also known as “self-regulatory organizations” or “SROs”) pursuant to a fingerprint plan filed with, and declared effective by, the Commission. Fingerprint plans have been approved for the American, Boston, Chicago, New York, and Philadelphia stock exchanges and for the Financial Industry Regulatory Authority (“FINRA”) and the Chicago Board Options Exchange. Currently, the bulk of the fingerprints are submitted through FINRA.

It is estimated that approximately 5,000 respondents submit approximately 288,000 sets of fingerprints (consisting of 198,500 electronic sets and 89,500 hard copy sets) to SROs on an annual basis. The Commission estimates that it would take approximately 15 minutes to create and submit each fingerprint card. The total reporting burden is therefore estimated to be 72,000 hours, or approximately 15 hours per respondent, annually.

In addition, the SROs charge an estimated $30.25 fee for processing fingerprint cards submitted electronically, resulting in a total annual cost to all 5,000 respondents of approximately $6,004,600, or $1,200.92 per respondent per year. The SROs charge an estimated $44.50 fee for processing fingerprint cards submitted in hard copy, resulting in a total annual cost to all 5,000 respondents of approximately $3,982,700, or $796.54 per respondent per year. The combined annual cost to all respondents is thus $9,987,300.

Because the FBI will not accept fingerprint cards directly from submitting organizations, Commission approval of fingerprint plans from certain SROs is essential to carry out the Congressional goal to fingerprint securities industry personnel. Filing these plans for review assures users and their personnel that fingerprint cards will be handled responsibly and with due care for confidentiality.

An agency may not conduct or sponsor, and a person is not required to respond to, a collection of information under the PRA unless it displays a currently valid OMB control number.

The public may view background documentation for this information collection at the following Web site: www.reginfo.gov.

Comments should be directed to: (i) Desk Officer for the Securities and Exchange Commission, Office of Information and Regulatory Affairs, Office of Management and Budget, Room 10102, New Executive Office Building, Washington, DC 20503 or by sending an email to: Shagufta_Ahmed@omb.eop.gov; and Thomas Bayer, Chief Information Officer, Securities and Exchange Commission, c/o Remi Pavlik-Simon, 100 F Street NE., Washington, DC 20549, or by sending an email to: PRA_Mailbox@sec.gov. Comments must be submitted to OMB within 30 days of this notice.

Dated: September 22, 2014.
Kevin M. O'Neill,
Deputy Secretary.

[FR Doc. 2014-22912 Filed 9-25-14; 8:45 am]

BILLING CODE 8011-01-P